DEPARTMENT OF THE INTERIOR

Bureau of Land Management

[MT924-5101-ER-E044, MTM 97296; IDI 35970]

Notice of Intent To Prepare an Environmental Impact Statement for the Mountain States Transmission Intertie Project in Montana and Idaho, Possible Land Use Plan Amendments, and Notice of Public Scoping Meetings

AGENCY: Bureau of Land Management, Interior.

ACTION: Notice of Intent.

SUMMARY: The Bureau of Land Management (BLM) gives notice of intent to prepare an Environmental Impact Statement (EIS) to address potential effects of a proposed project by NorthWestern Energy to build and operate a new 500 kV electric transmission line requiring a special use permit, right-of-way grant, and/or temporary use permit for construction, operation, and maintenance of a 500kV electric transmission line and associated substation, including new access roads. The transmission line is known as the Mountain States Transmission Intertie (MSTI) Project. NorthWestern Energy's three project alternatives range from 390 to 430 miles in length, but additional alternatives or variations on alternatives may be developed through the environmental review process. Alternatives for the proposed transmission line would pass over private, state, and federally managed lands in Montana and Idaho. Federally managed lands include lands administered by the BLM, U.S. Forest Service (USFS), Department of Agriculture (USDA) Agricultural Research Service (ARS), U.S. Sheep Experiment Station, and U.S. Department of Energy (DOE) Idaho National Laboratory. Authorization of this proposal may require the amendment of the BLM and the USFS land use plans (Forest Plans, Management Framework Plans, and Resource Management Plans).

DATES: This notice initiates the public scoping process. Comments concerning the scope of the analysis should be received by October 10, 2008. The BLM will host open houses in the following communities:

Montana

• September 9, 2008—Copper King Hotel, 4655 Harrison Avenue, Butte, Montana;

• September 10, 2008—Three Forks High School, 210 East Neal, Three Forks, Montana;

• September 11, 2008—University of Montana Western, Lewis and Clark Room, Dillon, Montana.

Idaho

• September 16, 2008—Red Lion Canyon Springs, 1357 Blue Lakes Boulevard N., Twin Falls, Idaho;

• September 17, 2008—Arco/Butte Business Incubator Center, 159 N. Idaho Street, Arco, Idaho;

• September 18, 2008—Hilton Garden Inn, 700 Lindsay Boulevard, Idaho Falls, Idaho.

All public meetings will be held 7 to 9 p.m. mountain daylight savings time. Additional meeting announcements will be made by news release to the media, individual letter mailings, and postings on the project Web sites listed below.

ADDRESSES: You may submit comments or resource information by any of the following methods:

• Web site: http://blm.gov/mt/st/en/prog/lands_realty/projects.htm.

• E-mail: MT_MSTI@blm.gov.

• Mail: Mark A. Mackiewicz, National Project Manager, Bureau of Land Management, Washington Office, c/o Price Field Office, 125 South 600 West, Price, Utah 84501.

• Courier or Hand Delivery: Mark A. Mackiewicz, National Project Manager, Bureau of Land Management, Washington Office, c/o Price Field Office, 125 South 600 West, Price, Utah 84501.

Or

• Web site: http://www.deq.mt.gov/MFS/MSTI/MSTIindex.asp.

• E-mail: DEQQMSTI@mt.gov.

• Mail: Greg Hallsten, EIS Coordinator, Director's Office, Montana Department of Environmental Quality, P.O. Box 200901, Helena, Montana 59620-0901.

• Courier or Hand Delivery: Greg Hallsten, EIS Coordinator, Director's Office, Montana Department of Environmental Quality, 1520 East Sixth Avenue, Helena, Montana 59620.

Documents pertinent to the right-of-way application may be examined at:

• http://www.deq.mt.gov/MFS/MSTI/MSTIindex.asphttp://www.blm.gov/mt/st/en/prog/lands_realty/projects.htm.

FOR FURTHER INFORMATION CONTACT: To receive information and/or to have your name added to our mailing list, contact Mark A. Mackiewicz, National Project Manager, Bureau of Land Management, Washington Office, c/o Price Field Office, 125 South 600 West, Price, Utah 84501.

SUPPLEMENTARY INFORMATION: The BLM will hold public meetings to obtain input on potential impacts, alternatives, and mitigation. To provide the public an opportunity to review the proposal and project information, the BLM expects to hold three meetings in Idaho and three meetings in Montana along the proposed and alternative alignments. The meetings will be conducted in an “open house” format where the BLM staff and project proponents will be available to explain project details and gather information from interested individuals or groups. A period for formal comments will be provided. The draft EIS is scheduled for release in late spring 2009, and the final EIS is scheduled for completion in late fall 2009.

For lands in Montana, NorthWestern Energy is preparing an application for a Certificate of Compliance under the Montana Major Facility Siting Act (MFSA), and the Montana Department of Environmental Quality will then proceed with the environmental review under the Montana Environmental Policy Act (MEPA) and MFSA. The BLM will develop an EIS designed to meet the standards of analysis required for compliance with both federal and state regulations. Each agency will serve as the lead agency for ensuring compliance under their respective jurisdictions. The EIS must comply with NEPA 1969, as amended by the Environmental Quality Improvement Act of 1970, 42 U.S.C. 4371, et seq. and all other applicable laws, executive orders, regulations, and direction.

The federal environmental review process described above will guide the public and agency review in Idaho. The BLM will consult with state and local agencies affected by the project. Construction cannot commence until all local, state, and federal permits and regulatory requirements are met. Applications for right-of-way and special use permit have been submitted for the use and occupation of BLM- and USFS-administered lands, respectively.

The new transmission line would begin at the new Townsend Substation, which would be constructed in southwestern Montana about five miles southeast of the city of Townsend. As proposed, the line would proceed southwest to an enlarged substation east of Anaconda, Montana. The line would proceed south into southeastern Idaho, connecting to Idaho Power's existing Midpoint Substation, 10 miles north of Jerome, Idaho. The transmission line towers would be constructed of lattice steel or tubular steel approximately 125 feet high, with an average span of 1,400 feet. An approximate 220-foot-wide right-of-way would be required. The BLM is responsible for issuance of a right-of-way for the BLM federally managed lands by authority of the Federal Land Policy Management Act (FLPMA). The BLM field offices and National Forests that are likely to be involved are:

• In Idaho: Burley Field Office, Shoshone Field Office, Upper Snake Field Office, and Caribou-Targhee National Forest.

• In Montana: Butte Field Office, Dillon Field Office, Helena National Forest, and Beaverhead-Deerlodge National Forest.

Cooperating agencies identified at this time include the USFS and the Montana Department of Natural Resources and Conservation (MDNRC). The ARS and the Department of Energy have been invited to participate in the project as a cooperating agency.

Through public scoping, the BLM expects to identify various issues, potential impacts, mitigation measures, and alternatives to the proposed action. At present, the BLM has identified the following issues and concerns:

• Location of residences and communities.

• Agricultural lands.

• Cultural and historic resources.

• Park and recreational areas.

• Visual impacts.

• Water resources including lakes, streams, wetlands and floodplains.

• Sensitive plants, animals, and habitats.

• Socioeconomic effects including electric rate effects.

• Public health and safety.

The BLM will analyze the proposed action and no action alternatives, as well as other possible alternatives to the proposed power line location and access routes. The BLM encourages you to send us your comments concerning the power line project as proposed and feasible alternative locations, possible mitigation measures, and any other information relevant to the proposed action.

Authorization of this proposal may require amendment of one or more BLM or USFS land use plans. By this notice, the BLM is complying with requirements in 43 CFR 1610.2(c) and the USFS is complying with 36 CFR 219.9 to notify the public of potential amendments to land use plans. If a Resource Management Plan, Management Framework Plan, or Forest Plan Amendment is necessary, the BLM and the USFS will integrate the land use planning process with the NEPA analysis process for this project. The responsible official who will sign the Record of Decision for the BLM will be Tim Bozorth, Field Manager, BLM Dillon Field Office. The responsible official who will sign the Record of Decision for the USFS will be Bruce Ramsey, Forest Supervisor, Beaverhead-Deerlodge National Forest.

Your input is important and will be considered in the environmental analysis process. All comment submittals must include the commenter's name and street address. Comments including the names and addresses of the respondent will be available for public inspection at the above offices during their business hours (7:45 a.m. to 4:30 p.m.), Monday through Friday, except federal holidays.

Any persons wanting to be added to a mailing list of interested parties can call or write to the BLM as described in this notice. Additional informational meetings may be conducted throughout the process to keep the public informed of the progress of the EIS.

Before including your address, phone number, e-mail address, or other personal identifying information in your comment, you should be aware that your entire comment—including your personal identifying information—may be publicly available at any time. While you can ask us in your comment to withhold your personal identifying information from public review, we cannot guarantee that we will be able to do so.

Dated: August 11, 2008.
Howard A. Lemm,
Acting State Director, Montana State Office.

[FR Doc. E8-19335 Filed 8-19-08; 8:45 am]

BILLING CODE 4310-DN-P